DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

A Combined Growth Factor-Deleted and Thymidine Kinase-Deleted Vaccinia Virus Vector for Cancer Therapy

J. Andrea McCart (NCI), David L. Bartlett (NCI), and Bernard Moss (NIAID)

DHHS Reference Nos. E-181-99/0 filed 28 May 1999 and E-181-99/1 filed 26 May 2000 (PCT/US00/14679)

Licensing Contact: Elaine White; 301/496-7056 ext. 282; e-mail: gesee@od.nih.gov.

Tumor-selective, replicating viruses may infect and kill cancer cells and efficiently express therapeutic genes in cancer cells. The current invention embodies mutant vaccinia virus expression vectors. These vectors, which are vaccinia virus growth factor-deleted and thymidine-kinase deleted, are substantially incapable of replicating in non-dividing cells, and as such have specificity for cancer cells. It is therefore believed that the vectors will be of value for cancer therapy either by directly killing cancer cells or by expressing therapeutic agents in cancer cells while sparing normal, non-dividing cells.

Retroviral Vectors

MA Eglitis JA Thompson WF Anderson (NHLBI)

Serial No. 08/340,805 filed Nov 17, 1994, now US Patent 5,672,510 issued Sep 30, 1997, which is a continuation of 07/919,062 filed July 23, 1992, which is a CIP of 07/686,167 filed April 16, 1991, which is a CIP of 07/467,791 filed Jan 19, 1990.

Licensing Contact: Susan S. Rucker; 301/496-7056 ext. 245; e-mail: ruckers@od.nih.gov.

This patent relates to the field of gene therapy. More, particularly the patent claims two different retroviral vectors which may be used to deliver heterologous genes in gene therapy or other applications requiring the delivery of a heterologous gene to a host. The patent also claims a cloning system which utilizes the vectors to accomplish the transfer of genes from a shuttle vector to the retroviral vector.

The first retroviral vector utilizes a multiple cloning site (MCS) comprising at least four restriction enzyme sites and a length of about 70bp. The restriction enzyme sites are preferably rare restriction enzyme sites. The second vector, known as a SIN (self-inactivating) vector, contains mutations, rather than deletions, in the promoter or the promoter and enhancer regions of the 3′ LTR and may also contain a MCS such as that found in the first vector.

Dated: September 11, 2000.
Jack Spiegel,
Director, Division of Technology, Development and Transfer, Office of Technology Transfer, National Institutes of Health.

[FR Doc. 00-24243 Filed 9-20-00; 8:45 am]

BILLING CODE 4140-01-P